DEPARTMENT OF HOMELAND SECURITY

Coast Guard

[Docket No. USCG-2016-0848]

National Offshore Safety Advisory Committee

AGENCY: Coast Guard, Department of Homeland Security.

ACTION: Notice of Federal advisory committee meeting.

SUMMARY: The National Offshore Safety Advisory Committee and its Subcommittee will hold meetings in Houston, TX to discuss the safety of operations and other matters affecting the offshore oil and gas industry. These meetings are open to the public.

DATES: The Well Intervention Subcommittee of the National Offshore Safety Advisory Committee will meet on Tuesday, November 1, 2016, from 1 p.m. to 2:30 p.m. and the full Committee will meet on Wednesday, November 2, 2016, from 8:30 a.m. to 6 p.m. (All times are Central Daylight Time). These meetings may end early if the Committee has completed its business, or they may be extended based on the number of public comments.

ADDRESSES: The meetings will be held at the Offices of Beirne, Maynard and Parsons, L.L.P., 25th Floor Conference Room, 1300 Post Oak Blvd., Houston, TX 77056. Phone (713) 968-3811.

For information on facilities or services for individuals with disabilities, or to request special assistance at the meetings, contact the individuals listed in the FOR FURTHER INFORMATION CONTACT section as soon as possible.

Instruction: To facilitate public participation, we are inviting public comment on the issues to be considered by the Committee as listed in the “Agenda” section below. Written comments for distribution to Committee members must be submitted no later than October 14, 2016, if you want the Committee members to be able to review your comments before the meeting, and must be identified by docket number USCG-2016-0848. Written comments may be submitted using the Federal e-Rulemaking Portal at http://www.regulations.gov. For technical difficulties, contact the individuals listed in the FOR FURTHER INFORMATION CONTACT section of this document. Comments received will be posted without alteration at http://www.regulations.gov, including any personal information provided. You may review a Privacy Act notice regarding the Federal Docket Management System in the March 24, 2005, issue of the Federal Register (70 FR 15086).

Docket Search: For access to the docket or to read documents or comments related to this notice, go to http://www.regulations.gov, insert USCG-2016-0848 in the Search box, press Enter, and then click on the item you wish to view.

A public oral comment period will be held during the meeting on November 2, 2016, and speakers are requested to limit their comments to 3 minutes. Contact one of the individuals listed below to register as a speaker.

FOR FURTHER INFORMATION CONTACT: Commander Jose Perez, Designated Federal Officer of the National Offshore Safety Advisory Committee, Commandant (CG-OES-2), U.S. Coast Guard, 2703 Martin Luther King, Jr. Avenue SE., Stop 7509, Washington, DC 20593-7509; telephone (202) 372-1410, fax (202) 372-8382 or email jose.a.perez3@uscg.mil, or Mr. Patrick Clark, telephone (202) 372-1358, fax (202) 372-8382 or email Patrick.w.clark@uscg.mil.

SUPPLEMENTARY INFORMATION: Notice of this meeting is in compliance with the Federal Advisory Committee Act, Title 5 United States Code Appendix. The National Offshore Safety Advisory Committee provides advice and recommendations to the Department of Homeland Security on matters and actions concerning activities directly involved with or in support of the exploration of offshore mineral and energy resources insofar as they relate to matters within U.S. Coast Guard jurisdiction.

A copy of all meeting documentation including the agenda, any draft final reports, new task statement and presentations will be available at https://homeport.uscg.mil/NOSAC no later than October 21, 2016. Alternatively, you may contact Mr. Patrick Clark as noted in the FOR FURTHER INFORMATION CONTACT section above.

Agenda

Day 1

The Subcommittee on Well Intervention Activities on the Outer Continental Shelf will meet on November 1, 2016 from 1 p.m. to 2:30 p.m. (Central Daylight Time) to review, discuss, and formulate recommendations.

Day 2

The National Offshore Safety Advisory full Committee will hold a public meeting on November 2, 2016 from 8:00 a.m. to 6:00 p.m. (Central Daylight Time) to review and discuss the progress of, and any reports and recommendations received from, the above listed Subcommittee from their deliberations on November 1, 2016. The Committee will then use this information and consider public comments in formulating recommendations to the U.S. Coast Guard. Public comments or questions will be taken at the discretion of the Designated Federal Officer during the discussion and recommendation portions of the meeting and during the public comment period, see Agenda item (6).

A complete agenda for November 2, 2016 Committee meeting is as follows:

(1) Welcoming remarks.

(2) General Administration and accept minutes from March 2016 National Offshore Safety Advisory Committee public meeting.

(3) Current Business—Presentation and discussion of updates and a final report to include recommendations from the Subcommittee on Well Intervention.

(4) New Business.

(a) Discussion of any new business items.

(b) Introduction of a task statement requesting National Offshore Safety Advisory Committee's input on the draft Navigation and Vessel Inspection Circular on Cyber Security for Marine Operations on the U.S. Outer Continental Shelf.

(5) Presentations on the following matters:

(a) Eighth Coast Guard District Officer in Charge Marine Inspection Risk Based Inspection Program;

(b) Oil Companies International Marine Forum presentation on their Offshore Vessel Inspection Database Program;

(c) Update from the Bureau of Safety and Environmental Enforcement;

(d) Strengthening the Safety Culture of the Offshore Oil and Gas Industry Report presented by representatives from the Transportation Research Board.

(6) Public comment period.

Minutes

Meeting minutes from this public meeting will be available for public view and copying within 90 days following the close of the meeting at the https://homeport.uscg.mil/NOSAC Web site.

Dated: September 7, 2016.
J.G. Lantz,
Director of Commercial Regulations and Standards.

[FR Doc. 2016-22839 Filed 9-21-16; 8:45 am]

BILLING CODE 9110-04-P